SMALL BUSINESS ADMINISTRATION

[Declaration of Disaster #3424, Amdt. 1]

State of Colorado

In accordance with information received from the Federal Emergency Management Agency dated July 29, 2002, the above numbered declaration is hereby amended to include Larimer, Jackson and Weld Counties in the State of Colorado as disaster areas due to damages caused by wildfires occurring on April 23, 2002 and continuing.

In addition, applications for economic injury loans from small businesses located in the following contiguous counties may be filed until the specified date at the previously designated location: Albany and Laramie Counties in Wyoming; and Kimball County in Nebraska. All other counties contiguous to the above named primary counties have been previously declared.

All other information remains the same, i.e., the deadline for filing applications for physical damage is August 18, 2002, and for economic injury the deadline is March 19, 2003.

(Catalog of Federal Domestic Assistance Program Nos. 59002 and 59008)
Dated: August 2, 2002.
Herbert L. Mitchell,
Associate Administrator for Disaster Assistance.

[FR Doc. 02-20095 Filed 8-7-02; 8:45 am]

BILLING CODE 8025-01-P